Proclamation 10468 of October 6, 2022

National Manufacturing Day, 2022

By the President of the United States of America

A Proclamation

Manufacturing is the backbone of America, powering our economy and building our middle class. Over the past year and a half, we have been making “Buy American” a reality, not just a slogan, and bringing jobs and companies home. This year's National Manufacturing Day comes in the midst of an American manufacturing boom, as we celebrate the strength and resilience of the American worker and recommit to the investments and innovation that will ensure the future is Made in America.

Throughout the pandemic, even as factories closed and supply chains stalled, American workers showed incredible ingenuity and resolve to keep our country moving forward. Today, we are experiencing the strongest manufacturing rebound at this point in a presidency in 3 decades, adding 668,000 manufacturing jobs since my Administration began. Employers have announced $200 billion in new manufacturing investments here since 2021, and manufacturing construction has more than doubled as companies are betting on America again. But to really guarantee our economic strength and national security, we have to do more by investing in infrastructure, innovation, and our own supply chains to bring prices down and good-paying union jobs home.

That is why last fall, I signed the Bipartisan Infrastructure Law, a once-in-a-generation investment in America's roads, bridges, railways, and ports, which will boost demand for American iron, steel, and construction materials. It is why we are helping to train the workforce of the future—supporting STEM education and tech hubs across the country, pushing companies to partner with community colleges and technical schools, and bolstering Registered Apprenticeships and pre-apprenticeship programs funded by the American Rescue Plan. It is why we are using the Government's purchasing power to grow the market for American-made goods. One of the first things I did as President was tighten Federal “Buy American” provisions, raising the amount of required domestic content from 55 percent to 75 percent. When the Federal Government spends taxpayer dollars, it should spend them on American-made products.

Meanwhile, we are investing in tomorrow's biggest industries—clean energy; advanced biotechnology; quantum computing; and semiconductors, the computer chips that power everything from smartphones to dishwashers and cars. In August, I signed the CHIPS and Science Act, securing significant funding for domestic manufacturing and research and development. America invented the semiconductor; this law brings it back home—and it is already drawing tens of billions of dollars in private-sector investment and will create tens of thousands of jobs. I also recently signed the game-changing Inflation Reduction Act, which allocates a record $369 billion to fight climate change, boosting demand for energy-efficient appliances, homes, and cars and creating millions of good-paying clean-energy and clean-manufacturing jobs.

America is the only Nation in the world that can be defined in a single word: possibilities. American manufacturing makes those possibilities real. Today, on National Manufacturing Day, thousands of manufacturers across the country are opening their doors to give a new generation of students, teachers, and builders a glimpse of the opportunities that a career in modern manufacturing offers. We stand with them and commit to winning not just the jobs of today but the jobs and industries of tomorrow. The United States is in a position to outcompete the world once again.

NOW, THEREFORE, I, JOSEPH R. BIDEN JR., President of the United States of America, by virtue of the authority vested in me by the Constitution and the laws of the United States, do hereby proclaim October 7, 2022, as National Manufacturing Day. I encourage all Americans to look for ways to get involved in your community and join me in participating in National Manufacturing Day, and, most importantly, buy American.

IN WITNESS WHEREOF, I have hereunto set my hand this sixth day of October, in the year of our Lord two thousand twenty-two, and of the Independence of the United States of America the two hundred and forty-seventh.

[FR Doc. 2022-22263

Filed 10-11-22; 8:45 am]

Billing code 3395-F3-P